DEPARTMENT OF THE INTERIOR

Bureau of Land Management

[CA-939-1610-DO]

California Coastal National Monument

AGENCY: Bureau of Land Management; California State Office.

ACTION: Notice of Intent to prepare a Resource Management Plan (RMP) for the California Coastal National Monument, designated January 11, 2000. This action will require a single Environmental Impact Statement (EIS). The planning area includes all counties which border the California Coast.

SUMMARY: This document provides notice that the Bureau of Land Management (BLM) intends to prepare an RMP with an associated EIS for the California Coastal National Monument Area. The monument includes all unappropriated and unreserved islands, rocks, exposed reefs, and pinnacles owned by the United States along the Pacific coastline of California located above high mean tide. This area overlaps the Arcata, Ukiah, Hollister, Bakersfield, and the Palm Springs—South Coast Field Offices. This planning activity encompasses approximately 883 acres of public land or approximately 11,500 islands. The plan will fulfill the needs and obligations set forth by the National Environmental Policy Act (NEPA), the Federal Land Policy and Management Act (FLPMA), the monument proclamation, and BLM management policies. The BLM will work collaboratively with interested parties to identify the management decisions that are best suited to local, regional, and national needs and concerns. Partners in the plan will include all major coastal management agencies and local governments. The public scoping process will identify planning issues and develop planning criteria, including an evaluation of the existing RMPs and Management Framework Plans (MFPs) in the context of the needs and interests of the public and protection of the objects of historic and scientific interest specified in the proclamation.

DATES: The publication of this notice initiates the public scoping process. Formal scoping will last a minimum of 60 days. The Draft California Coastal National Monument Plan is scheduled for completion in September 2003. Comments on issues and planning criteria can be submitted in writing to the addresses listed below. All public meetings will be announced through the local news media, newsletters, and the BLM Web site (www.ca.blm.gov) at least 15 days prior to the event. The minutes and list of attendees for each meeting will be available to the public and open for 30 days to any participant who wishes to clarify the views they expressed.

Public Participation: Public meetings will be held throughout the plan scoping and preparation period. In order to ensure local community participation and input, open houses will be held in locations most closely affiliated with the monument. Probable locations include the towns of Eureka, Mendicino, Guala, San Francisco, Monterey, San Luis Obispo, Santa Barbara, Sacramento, and Los Angeles. Early participation is encouraged and will help determine the future management of the California Coastal National Monument. In addition to the ongoing public participation process, formal opportunities for public participation will be provided through comment on the alternatives and upon publication of the BLM draft RMP/EIS. In addition, written comments will be accepted throughout the entire planning process.

ADDRESSES: Written comments should be sent to California State Office, Bureau of Land Management, Division of Resources, 2800 Cottage Way, Sacramento, California 95825; Fax 916-978-4657. Documents pertinent to this proposal may be examined at that office, the Arcata Field Office in Arcata California, the Ukiah Field Office in Ukiah, California, the Hollister Field Office in Hollister, California, the Bakersfield Field Office in Bakersfield, California, and the Palm Springs/South Coast Field Office in Palm Springs, California. Comments, including names and street addresses of respondents, will be available for public review at those above listed offices during regular business hours 7:45 a.m. to 4 p.m., Monday through Friday, except holidays, and may be published as part of the EIS. Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

FOR FURTHER INFORMATION: For further information and/or to have your name added to our mailing list, contact Tony Danna, telephone 916 978-4630, or Paul Brink, telephone 916 978-4641.

SUPPLEMENTARY INFORMATION: The creation of the California Coastal National Monument necessitates a maintenance action to the Arcata RMP, the Clear Lake MFP, the Hollister RMP, the Caliente RMP, and the South Coast RMP in order to revise the boundaries of these plans to exclude the new Monument.

Preliminary issues and management concerns have been identified by BLM personnel, other agencies, and in meetings with individuals and user groups. They represent the BLM's knowledge to date on the existing issues and concerns with current management. The major issue themes that will be addressed in the planning effort include, but are not limited to: management and protection of shore birds and pinnepeds; management and protection of the area's cultural, historic, and prehistoric values; management integration with other agencies along the coastal zone; management of recreation/visitor use and safety; facilities and infrastructures needed to provide visitor interpretation/appreciation and administration of the monument; and integrating monument management with community, tribal, and other agency needs. After gathering public comments on what issues the plan should address, the suggested issues will be placed in one of three categories:

1. Issues to be resolved in the plan;

2. Issues resolved through policy or administrative action; or

3. Issues beyond the scope of this plan.

Rationale will be provided in the plan for each issue placed in category two or three. In addition to these major issues, a number of management questions and concerns will be addressed in the plan. The public is encouraged to help identify these questions and concerns during the scoping phase. An interdisciplinary approach will be used to develop the plan in order to consider the variety of resource issues and concerns identified. Disciplines involved in the planning process will include specialists with expertise in wildlife/fisheries/marine sciences management, minerals and geology, outdoor recreation, archaeology, paleontology, lands and realty, botany, soils, information technology, sociology, and economics. Where necessary, outside expertise may be sought to advise BLM staff.

Background Information

On January 11, 2000, the President signed the Proclamation creating the California Coastal National Monument. The monument encompasses approximately 883 acres or approximately 11,500 islands along the entire coast of California. This monument does not include submerged lands or territorial waters that are owned by the State of California. The Proclamation recognizes the biological, geological, and cultural significance that warrant protection as a national monument. In particular, gulls, the endangered California least tern, the endangered brown pelican, and the snowy plover reside in and establish their nests on the islands, rocks, exposed reefs, and pinnacles that comprise the national monument. Studies as early as 1970 have noted that the rookeries on which these birds breed are unprotected and threatened. The number of breeding pairs for some of the species continues to decline. The monument also provides forage and breeding habitat for several mammal species, including a number of threatened pinnepeds. Recognizing their ecological importance, the Secretary of the Interior designated these islands, rocks, exposed reefs, and pinnacles as the “California Islands Wildlife Sanctuary” on April 11, 1983 (Public Land Order 6369). On February 5, 1990, the BLM designated these islands, rocks, exposed reefs, and pinnacles an Area of Critical Environmental Concern pursuant to the Federal Land Policy and Management Act of 1976 (FLPMA, 43 U.S.C. 1701 et seq.). While the BLM retains legal responsibility for the Sanctuary, the State of California's Department of Fish and Game currently handles day-to-day management under a 2000 Memorandum of Understanding (MOU).

Elaine Marquis-Brong,
Director, National Landscape Conservation System, Bureau of Land Management.

[FR Doc. 02-9591 Filed 4-23-02; 8:45 am]

BILLING CODE 4310-32-P